ENVIRONMENTAL PROTECTION AGENCY

40 CFR Part 52

[EPA-R10-OAR-2018-0769; FRL-9991-71-Region 10]

Air Plan Approval; ID, Kraft Pulp Mill Rule Revisions

AGENCY: Environmental Protection Agency.

ACTION: Final rule.

SUMMARY: The Environmental Protection Agency (EPA) is taking final action to approve revisions to Idaho's State Implementation Plan (SIP) submitted by the Idaho Department of Environmental Quality (IDEQ) on November 2, 2018. The submitted revisions update Idaho's rules by removing obsolete and duplicative requirements as well as requirements less stringent than applicable Federal regulations.

DATES: This final rule is effective May 8, 2019.

ADDRESSES: EPA has established a docket for this action under Docket ID No. EPA-R10-OAR-2018-0769, at https://www.regulations.gov. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the “For Further Information Contact” section for additional availability information.

FOR FURTHER INFORMATION CONTACT: Randall Ruddick at (206) 553-1999, ruddick.randall@epa.gov, or Attn: Randall Ruddick, EPA Region 10, Office of Air and Waste (OAW-155), 1200 6th Ave., Seattle, WA 98101.

SUPPLEMENTARY INFORMATION: Throughout this document, wherever “we,” “us,” or “our” is used, it is intended to refer to EPA.

Table of Contents

I. Background

II. Final Action

III. Incorporation by Reference

IV. Statutory and Executive Orders Review

I. Background

On November 2, 2018, the Idaho Department of Environmental Quality (IDEQ) submitted revisions to the SIP that remove Idaho's 1994 version of IDAPA 58.01.01.815, .816, and .819 through .826, and add the State's current (2012) version of IDAPA 58.01.01.815 and .818 into the SIP.

On February 13, 2019, the Environmental Protection Agency (EPA) proposed to approve Idaho's November 2, 2018 submission. Please see the proposed approval for further explanation (84 FR 3744). The public comment period for our proposed action ended on March 15, 2019. We did not receive any comments on this action. Therefore, we are finalizing our action as proposed.

II. Final Action

EPA is approving and incorporating by reference into Idaho's SIP, all revisions to IDAPA 58.01.01.815 and .818 (state effective March 29, 2012) as requested by Idaho on November 2, 2018. EPA is also approving, as requested by Idaho on November 2, 2018, removal of IDAPA 58.01.01.816, .817, and .821 through .826 from the Idaho SIP. We have determined that the submitted SIP revisions are consistent with section 110 of Title I of the CAA.

III. Incorporation by Reference

In this rule, EPA is approving regulatory text that includes incorporation by reference. In accordance with requirements of 1 CFR 51.5, EPA is incorporating by reference the provisions described above in Section II. Final Action and set forth below, as amendments to 40 CFR part 52.

Also in this rule, EPA is removing regulatory text that includes incorporation by reference. In accordance with requirements of 1 CFR 51.5, EPA is removing the incorporation by reference of IDAPA 58.01.01.816, .817, and .821 through .826 as described in Section II. Final Action and set forth below, as amendments to 40 CFR part 52.

EPA has made, and will continue to make, these documents generally available electronically through www.regulations.gov and at the EPA Region 10 office (please contact the person identified in the FOR FURTHER INFORMATION CONTACT section of this preamble for more information).

IV. Statutory and Executive Orders Review

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because it does not involve technical standards; and

• Does not provide the EPA with the discretionary authority to address, as appropriate, disproportionate human health or environmental effects, using practicable and legally permissible methods, under Executive Order 12898 (59 FR 7629, February 16, 1994).

The SIP does not apply on any Indian reservation land or in any other area where the EPA or an Indian tribe has demonstrated that a tribe has jurisdiction. In those areas of Indian country, this action does not have tribal implications and will not impose substantial direct costs on tribal governments or preempt tribal law as specified by Executive Order 13175 (65 FR 67249, November 9, 2000).

List of Subjects in 40 CFR Part 52

Environmental protection, Air pollution control, Incorporation by reference, Particulate matter, Reporting and recordkeeping requirements, Sulfur oxides.

Authority: 42 U.S.C. 7401 et seq.

Dated: March 27, 2019.
Chris Hladick,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart N—Idaho

2. In § 52.670, the table in paragraph (c) is amended by:

a. Revising entry “815”;

b. Adding entry “818” in numerical order; and

c. Removing entries “816”, “817”, and “821” through “826”.

The revision and addition read as follows:

§ 52.670 Identification of plan.

* * * * *

(c) * * *

EPA-Approved Idaho Regulations and Statutes
State citation | Title/subject | State effective date | EPA approval date | Explanations
Idaho Administrative Procedures Act (IDAPA) 58.01.01—Rules for the Control of Air Pollution in Idaho
* * * * * * *
815 | Rules for Control of Kraft Pulp Mills | 3/29/2012 | 4/8/2019, [insert Federal Register citation]
818 | Kraft Pulp Mill LVHC and HVLC Gas Venting Notification and Reporting | 3/29/2012 | 4/8/2019, [insert Federal Register citation]
* * * * * * *

* * * * *

[FR Doc. 2019-06738 Filed 4-5-19; 8:45 am]

BILLING CODE 6560-50-P